DEPARTMENT OF JUSTICE

Notice of Lodging of Settlement Agreement Pursuant to the Comprehensive Environmental Response, Compensation and Liability Act and Chapter 11 of Title 11 of the United States Bankruptcy Code

In accordance with the policy of the Department of Justice, notice is hereby given that a proposed settlement agreement in United States v. American Allied Additives, Inc., et al., Civ. No. 1:00CV1014, was lodged with the United States District Court for the Northern District of Ohio, on December 6, 2001. The United States brought this action against 13 defendants including the Gibson-Homans Company pursuant to Sections 106 and 107 the Comprehensive Environmental Response, Compensation and Liability Act (CERCLA), 42 U.S.C. 9606 and 9607, for inter alia, payment of past costs incurrred, and future costs to be incurred, by the United States at the American Allied Additives Superfund Site in Cleveland, Ohio. Gibson-Homans filed a petition for reorganization under Chapter 11 of Title 11 of the United States Code, 11 U.S.C. 101, et seq., as amended in In Re: The Gibson-Homans Company, Case No. 00-50369, (Bankr. N.D. Ohio). The settlement agreements permits the United States' claim to be allowed as a pre-petition general unsecured claim in the amount of $24,050 against the Defendant, the Gibson-Homans Company, by the Bankruptcy Court thereby settling the United States' claims against the defendant.

For a period of thirty (30) days from the date of this publication, the Department of Justice will receive comments related to the proposed settlement agreement. Comments should be addressed to the Acting Assistant Attorney General, Environment and Natural Resources Division, U.S. Department of Justice, 950 Pennsylvania Avenue, NW., Washington, DC 20530, and should refer to United States v. American Allied Additives, Inc., et al., Civil Action No. 1:00CV1014; D.J. Ref. No. 90-11-2-1318.

The settlement agreement may be examined at the Office of the United States Attorney, 1800 Bank One Center, 600 Superior Avenue, Cleveland, Ohio 44114, and at the U.S. Environmental Protection Agency, Region V, 77 West Jackson Boulevard, Chicago, Illinois 60604. A copy of the settlement agreement may also be obtained by mail from the Consent Decree Library, P.O. Box 7611, U.S. Department of Justice, Washington, DC 20044. In requesting a copy, please enclose a check in the amount of $2.00 (8 pages at 25 cents per page reproduction cost). When requesting a copy, please refer to United States v. American Allied Additives, Inc., et al., Civil Action No. 00-01014; D.J. Ref. No. 90-11-2-1318.

William D. Brighton,
Assistant Chief, Environmental Enforcement Section, Environmental and Natural Resources Division.

[FR Doc. 02-3884 Filed 2-27-02; 8:45 am]

BILLING CODE 4410-15-M